DEPARTMENT OF HEALTH AND HUMAN SERVICES

Centers for Disease Control and Prevention

Advisory Committee for Injury Prevention and Control

In accordance with Section 10(a)(2) of the Federal Advisory Committee Act (Pub. L. 92-463), the Centers for Disease Control and Prevention (CDC) announces the following subcommittee and committee meetings.

Name: Science and Program Review Subcommittee (SPRS).

Time and Date: 8 a.m.-12 p.m., November 17, 2004.

Place: Hyatt Regency Atlanta, 265 Peachtree Street, Atlanta, Georgia 30303-1294.

Status: Open to the public, limited only by the space available.

Purpose: The SPRS provides advice on the needs, structure, progress and performance of programs of the National Center for Injury Prevention and Control (NCIPC), as well as second-level scientific and programmatic review for applications for research grants, cooperative agreements, and training grants related to injury control and violence prevention, and recommends approval of projects that merit further consideration for funding support. The SPRS also advises on priorities for research to be supported by contracts, grants, and cooperative agreements and provides concept review of program proposals and announcements.

Matters to be Discussed: The SPRS will discuss the acute care research agenda and details of the 2005 secondary review meeting to be held in Atlanta.

Name: Subcommittee on Intimate Partner Violence and Sexual Assault (SIPVSA).

Time and Date: 8:45 a.m.-11:30 a.m., November 17, 2004.

Place: Hyatt Regency Atlanta, 265 Peachtree Street, Atlanta, Georgia 30303-1294.

Status: Open to the public, limited only by the space available.

Purpose: To advise and make recommendations to the full advisory committee and the Director, NCIPC, regarding feasible goals for prevention and control of domestic and sexual violence. The SIPVSA makes recommendations regarding strategies, objectives, and priorities in programs, policies and research, and continually evaluates NCIPC's research agenda priorities and implementation related to intimate partner violence and sexual assault.

Matters to be Discussed: The SIPVSA will hold a conference call meeting to discuss and review a draft white paper on intimate partner and sexual violence prevention.

Place: Hyatt Regency Atlanta, 265 Peachtree Street, Atlanta, Georgia 30303-1294.

Status: Open to the public, limited only by the space available.

Name: Advisory Committee for Injury Prevention and Control.

Time and Dates: 1 p.m.-5 p.m., November 17, 2004, 8:30 a.m.-2:30 p.m., November 18, 2004.

Place: Hyatt Regency Atlanta, 265 Peachtree Street, Atlanta, Georgia 30303-1294.

Status: Open to the public, limited only by the space available.

Purpose: The Committee advises and makes recommendations to the Secretary, Health and Human Services, the Director, CDC, and the Director, NCIPC, regarding feasible goals for the prevention and control of injury. The Committee makes recommendations regarding policies, strategies, objectives, and priorities, and reviews progress toward injury prevention and control.

Matters to be Discussed: Prior to the full committee meeting, there will be a brief meeting conducted by conference call of the Working Group on Injury Control and Infrastructure Enhancement, a group formed to report to the full committee identifying gaps and suggesting ways to enhance injury prevention efforts. The Working Group will discuss drafting a white paper focusing on defining injury infrastructure and developing a simple mechanism to assess current efforts underway throughout the injury field to enhance that infrastructure. Starting at 1 p.m., the full committee will meet. Agenda items include reports from the Subcommittees and Working Group; an update by the Acting Director, NCIPC, on CDC/Agency for Toxic Substances and Disease Registry (ATSDR) Futures Initiative; goals management at CDC/ATSDR process to date, by life stages, for preparedness and response and goals management for injury prevention and control; core competencies for injury and violence prevention; surveillance for fatal and non-fatal injuries; health economics research at NCIPC; and an update on NCIPC preparedness and response activities.

Agenda items are subject to change as priorities dictate.

Contact Person for More Information: Ms. Louise Galaska, Executive Secretary, ACIPC, NCIPC, CDC, 4770 Buford Highway, NE, M/S K02, Atlanta, Georgia 30341-3724, telephone (770) 488-4694.

The Director, Management Analysis and Services Office, has been delegated the authority to sign Federal Register notices pertaining to announcements of meetings and other committee management activities, for both CDC and ATSDR.

Dated: October 24, 2004.
B. Kathy Skipper,
Acting Director, Management Analysis and Services Office, Centers for Disease Control and Prevention.

[FR Doc. 04-24515 Filed 11-2-04; 8:45 am]

BILLING CODE 4163-18-P